FEDERAL COMMUNICATIONS COMMISSION

[FRS 17257]

Deletion of Item From November 18, 2020 Open Meeting

November 18, 2020.

The following item was adopted by the Commission and deleted from the list of items scheduled for consideration at the Wednesday, November 18, 2020, Open Meeting. The item was previously listed in the Commission's Notice of Tuesday, November 10, 2020.

Item No. | Bureau | Subject
6 | WIRELESS TELE-COMMUNICATIONS AND OFFICE OF GENERAL COUNSEL | TITLE: Licensing Matter.
|  | SUMMARY: The Commission considered a licensing matter

Federal Communications Commission.
Marlene Dortch,
Secretary.

[FR Doc. 2020-25877 Filed 11-23-20; 8:45 am]

BILLING CODE 6712-01-P